DEPARTMENT OF COMMERCE

National Institute of Standards and Technology

Proposed Information Collection; Comment Request; NIST SURF Program Student Applicant Information

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 9, 2018.

ADDRESSES: Direct all written comments to Jennifer Jessup, Departmental Paperwork Clearance Officer, Department of Commerce, Room 6616, 1401 Constitution Avenue NW, Washington, DC 20230 (or via the internet at PRAcomments@doc.gov).

FOR FURTHER INFORMATION CONTACT: Requests for additional information or copies of the information collection instrument and instructions should be directed to Dr. Brandi Toliver, NIST, 100 Bureau Drive, Stop 1090, Gaithersburg, MD 20899-1090, tel. (301) 972-2371, or brandi.toliver@nist.gov.

SUPPLEMENTARY INFORMATION:

I. Abstract

The purpose of this collection is to gather information requested on behalf of the NIST Summer Undergraduate Research Fellowship (SURF) Program for both Gaithersburg and Boulder locations. The information is submitted by the university on behalf of the student applicants. The student information is utilized by laboratory program coordinators and technical evaluators to determine student eligibility, select students to appropriate research projects which match their needs, interests, and academic preparation, and ultimately, make offers to participate in the program. The information includes: Student name, host institution, email address/contact information, permanent address, choice of SURF-specific location (Boulder and/or Gaithersburg), class standing, first- and second-choice NIST laboratories/projects they wish to apply to, previous SURF participation/mentor identification, academic major/minor, current overall GPA, need for housing and gender (for housing purposes only), special skills (laboratory, computer programming etc.) availability dates, resume, personal statement of commitment and research interests, two letters of recommendation, academic transcripts, ability to verify U.S. citizenship or permanent legal residency, acknowledgement of background check, and requirements for REAL ID Act.

II. Method of Collection

The Student Application Information form will be available on the web. The collection is currently limited to paper form and is required to be scanned and submitted electronically.

III. Data

OMB Control Number: 0693-0042.

Form Number(s): None.

Type of Review: Renewal submission.

Affected Public: Individuals or households.

Estimated Number of Respondents: 650.

Estimated Time per Response: 30 minutes.

Estimated Total Annual Burden Hours: 325.

Estimated Total Annual Cost to Public: $0.

IV. Request for Comments

NIST invites comments on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-16914 Filed 8-7-18; 8:45 am]

BILLING CODE 3510-13-P